DEPARTMENT OF AGRICULTURE

Animal and Plant Health Inspection Service

[Docket No. 98-057-2]

Availability of Draft Pest Risk Assessment for the Importation of Solid Wood Packing Materials Into the United States

Correction

In notice document 00-26652 beginning on page 61301 in the issue of Tuesday, October 17, 2000, make the following correction:

On page 61301, in the DATES section, in the fourth line, “February 5, 2001” should read “February 14, 2001”.

[FR Doc. C0-26652 Filed 10-20-00; 8:45 am]

BILLING CODE 1505-01-D

DEPARTMENT OF COMMERCE

National Oceanic and Atmospheric Administration

15 CFR Part 902

50 CFR Part 679

[Docket No. 000524152-0274-02; I.D. 030100C]

RIN 0648-AM34

Fisheries of the Exclusive Economic Zone Off Alaska; Vessel Monitoring System (VMS)

Correction

In rule document 00-26656 beginning on page 61264 in the issue of Tuesday, October 17, 2000, make the following correction:

On page 61264, in the second column, under the heading DATES:, “Effective November 11, 2000.” should read “Effective November 16, 2000.”.

[FR Doc. C0-26656 Filed 10-20-00; 8:45 am]

BILLING CODE 1505-01-D

DEPARTMENT OF JUSTICE

Parole Commission

28 CFR Part 2

Paroling, Recommitting, and Supervising Federal Prisoners: Prisoners Serving Sentences Under the District of Columbia Code

Correction

In rule document 00-18602 beginning on page 45885 in the issue of Wednesday, July 26, 2000, make the following corrections:

§2.80 [Corrected]

On pages 45891 and 45892, in §2.80 (f), the table contained errors. The table should appear as follows:

Point Assignment Table
Category I: Risk of Recidivism (Salient Factor Score)
10-8 (Very Good Risk) | +0
7-6 (Good Risk) | +1
5-4 (Fair Risk) | +2
3-0 (Poor Risk) | +3
Category II: Current or Prior Violence (Type of Risk)
Note: Use the highest applicable subcategory. If no subcategory is applicable, score=0.
A. Violence in current offense, and any felony violence in two or more prior offenses | +4
B. Violence in current offense, and any felony violence in one prior offense | +3
C. Violence in current offense | +2
D. No violence in current offense and any felony violence in two or more prior offenses | +2
E. Possession of firearm in current offense if current offense is not scored as a crime of violence | +2
F. No violence in current offense and any felony violence in one prior offense | +1
Category III: Death of Victim or High Level Violence
Note: Use highest applicable subcategory. If no subcategory is applicable, score=0.
A current offense that involved high level violence must be scored under both Category II (A, B, or C) and under Category III.
A. Current offense was high level or other violence with death of victim resulting | +3
B. Current offense involved attempted murder, conspiracy to murder, solicitation to murder, or any willful violence in which the victim survived despite death having been the most probable result at the time the offense was committed | +2
C. Current offense involved high level violence (other than the behaviors described above) | +1
Base Point Score (Total of Categories I-III)
Category IV: Negative Institutional Behavior
Note: Use the highest applicable subcategory. If no subcategory is applicable, score=0.
A. Aggravated negative institutional behavior involving:
(1) Assault upon a correctional staff member, with bodily harm inflicted or threatened,
(2) Possession of a deadly weapon,
(3) Setting a fire so as to risk human life,
(4) Introduction of drugs for purposes of distribution, or
(5) Participating in a violent demonstration or riot | +2
B. Ordinary negative institutional behavior | +1
Category V: Program Achievement
Note: Use the highest applicable subcategory. If no subcategory is applicable, score=0.
A. No program achievement | 0
B. Ordinary program achievement | −1
C. Superior program achievement | −2
Total Point Score (Total of Categories I-V)

[FR Doc. C0-18602 Filed 10-20-00; 8:45 am]

BILLING CODE 1505-01-D